DEPARTMENT OF ENERGY

Federal Energy Regulatory Commission

Combined Notice of Filings #1

Take notice that the Commission received the following electric corporate filings:

Docket Numbers: EC17-184-000.

Applicants: Puget Sound Energy, Inc., Macquarie Infrastructure Partners Inc.

Description: Supplement to September 19, 2017 Application for Authorization Under Section 203 of the Federal Power Act of Puget Sound Energy, Inc., et al.

Filed Date: 10/23/17.

Accession Number: 20171023-5173.

Comments Due: 5 p.m. ET 10/30/17.

Take notice that the Commission received the following electric rate filings:

Docket Numbers: ER08-1281-013.

Applicants: New York Independent System Operator, Inc.

Description: Motion to Terminate the Reporting Obligation of the New York Independent System Operator, Inc.

Filed Date: 3/27/2017.

Accession Number: 20170327-5298.

Comments Due: 5 p.m. ET 11/14/17.

Docket Numbers: ER17-2027-001.

Applicants: Southwest Power Pool, Inc.

Description: Tariff Amendment: Deficiency Response—Integrated Transmission Planning Process Tariff Revisions to be effective 10/1/2017.

Filed Date: 10/23/17.

Accession Number: 20171023-5477.

Comments Due: 5 p.m. ET 11/13/17.

Docket Numbers: ER17-2560-001.

Applicants: Avista Corporation.

Description: Tariff Amendment: Avista Corp NITSA BPA Kalispel SA T-1140 Amendment to be effective 10/1/2017.

Filed Date: 10/24/17.

Accession Number: 20171024-5114.

Comments Due: 5 p.m. ET 11/14/17.

Docket Numbers: ER18-135-000.

Applicants: AEP Texas Inc.

Description: § 205(d) Rate Filing: AEP TX-Oncor IA Second Amended & Restated to be effective 9/26/2017.

Filed Date: 10/23/17.

Accession Number: 20171023-5475.

Comments Due: 5 p.m. ET 11/13/17.

Docket Numbers: ER18-136-000.

Applicants: Midcontinent Independent System Operator, Inc.

Description: § 205(d) Rate Filing: 2017-10-23_Revisions to MISO-PJM JOA to address congestion overlap issues to be effective 3/1/2018.

Filed Date: 10/23/17.

Accession Number: 20171023-5483.

Comments Due: 5 p.m. ET 11/13/17.

Docket Numbers: ER18-137-000.

Applicants: PJM Interconnection, L.L.C.

Description: § 205(d) Rate Filing: Revisions to MISO-PJM JOA re: Overlapping Congestion Charges to be effective 3/1/2018.

Filed Date: 10/23/17.

Accession Number: 20171023-5484.

Comments Due: 5 p.m. ET 11/13/17.

Docket Numbers: ER18-138-000.

Applicants: First Solar Development, LLC.

Description: Petition for Limited Waiver of Tariff Submission Deadline of First Solar Development, LLC.

Filed Date: 10/23/17.

Accession Number: 20171023-5628.

Comments Due: 5 p.m. ET 11/6/17.

Docket Numbers: ER18-139-000.

Applicants: PJM Interconnection, L.L.C.

Description: § 205(d) Rate Filing: Amendment to ISA No. 3198 and CSA Nos. 2642 and 2643; Queue No. T157/W4-037 to be effective 9/1/2010.

Filed Date: 10/24/17.

Accession Number: 20171024-5072.

Comments Due: 5 p.m. ET 11/14/17.

Docket Numbers: ER18-140-000.

Applicants: Lackawanna Energy Center LLC.

Description: Baseline eTariff Filing: Application for Market-Based Rate Authorization to be effective 12/24/2017.

Filed Date: 10/24/17.

Accession Number: 20171024-5079.

Comments Due: 5 p.m. ET 11/14/17.

Docket Numbers: ER18-141-000.

Applicants: Southern California Edison Company.

Description: § 205(d) Rate Filing: LGIA Alamitos Energy Center Project SA No 197 to be effective 10/25/2017.

Filed Date: 10/24/17.

Accession Number: 20171024-5080.

Comments Due: 5 p.m. ET 11/14/17.

Docket Numbers: ER18-142-000.

Applicants: Southern California Edison Company.

Description: § 205(d) Rate Filing: LGIA Huntington Beach Energy Project SA No 196 to be effective 10/25/2017.

Filed Date: 10/24/17.

Accession Number: 20171024-5081.

Comments Due: 5 p.m. ET 11/14/17.

Docket Numbers: ER18-143-000.

Applicants: PJM Interconnection, L.L.C.

Description: § 205(d) Rate Filing: Revisions to OATT 10.4 and OA 15.6 RE: Limitation on Claims to be effective 12/23/2017.

Filed Date: 10/24/17.

Accession Number: 20171024-5084.

Comments Due: 5 p.m. ET 11/14/17.

Docket Numbers: ER18-144-000.

Applicants: Southern California Edison Company.

Description: § 205(d) Rate Filing: Interconnection Agreement Bob Switch-Eldorado 220-kV Transmission Line to be effective 10/25/2017.

Filed Date: 10/24/17.

Accession Number: 20171024-5112.

Comments Due: 5 p.m. ET 11/14/17.

Docket Numbers: ER18-145-000.

Applicants: Midcontinent Independent System Operator, Inc.

Description: § 205(d) Rate Filing: 2017-10-24_SA 2637 Border Winds-NSP E&P (J290) Termination to be effective 10/25/2017.

Filed Date: 10/24/17.

Accession Number: 20171024-5127.

Comments Due: 5 p.m. ET 11/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2017.
Nathaniel J. Davis, Sr.,
Deputy Secretary.

[FR Doc. 2017-23553 Filed 10-27-17; 8:45 am]

BILLING CODE 6717-01-P